SMALL BUSINESS ADMINISTRATION

Public Federal Regulatory Enforcement Fairness Hearing; Region VI Regulatory Fairness Board

The Small Business Administration Region VI Regulatory Fairness Board and the SBA Office of the National Ombudsman will hold a Public Hearing on Friday, October 1, 2004 at 8:30 a.m. at the Greater Albuquerque Chamber of Commerce, Willard Board Room, 115 Gold Avenue, SW., Albuquerque, New Mexico 87102, to receive comments and testimony from small business owners, small government entities, and small non-profit organizations concerning regulatory enforcement and compliance actions taken by federal agencies.

Anyone wishing to attend or to make a presentation must contact Anthony J. McMahon or Susan Chavez in writing or by fax, in order to be put on the agenda. Anthony J. McMahon, District Director, SBA New Mexico District Office, 625 Silver Avenue, SW., Suite 320, Albuquerque, NM 87102, phone (505) 346-6767, fax (202) 481-0301, e-mail: Anthony.McMahon@sba.gov. Susan Chavez, Assistant District Director for Entrepreneurial Development, SBA New Mexico District Office, phone (505) 346-6759, fax (202) 481-5723, e-mail: Susan.Chavez@sba.gov.

For more information, see our Web site at http://www.sba.gov/ombudsman.

Dated: August 24, 2004.
Peter Sorum,
Senior Advisor, Office of the National Ombudsman.

[FR Doc. 04-19759 Filed 8-27-04; 8:45 am]

BILLING CODE 8025-01-P